DEPARTMENT OF TRANSPORTATION

Federal Highway Administration

Environmental Impact Statement; Nueces County, TX

AGENCY: Federal Highway Administration (FHWA), DOT.

ACTION: Revised Notice of Intent (NOI).

SUMMARY: The FHWA is issuing this revised notice to advise the public that an environmental impact statement (EIS) is being prepared for the proposed U.S. Highway 181 Harbor Bridge replacement/State Highway (SH) 286 (Crosstown Expressway) improvement highway project in Nueces County, Texas, and that the project and study limits described in the May 20, 2005, Notice of Intent (NOI) have been expanded.

FOR FURTHER INFORMATION CONTACT: Donald E. Davis, District Engineer, Federal Highway Administration—Texas Division, 300 East 8th Street, Austin, Texas 78701. Telephone: 512-536-5960.

SUPPLEMENTARY INFORMATION: The FHWA, in cooperation with the Texas Department of Transportation (TxDOT), is preparing an EIS for a proposal to replace the existing US 181 Harbor Bridge and construct improvements to SH 286 in Nueces County, Texas. The proposed improvements described in the original NOI would involve replacement of the existing Harbor Bridge and approaches where US 181 crosses the Corpus Christi Ship Channel for a roadway distance of approximately 2.25 miles. Since the original NOI was published on May 20, 2005, the project and study limits have been expanded to accommodate added capacity that may include managed lanes or various tolling strategies. The project limits are defined as the limits of the schematic design effort and the study limits are defined as the limits of potential impacts from the proposed action. The new project limits are as follows: the northern limit is the US 181 and Beach Avenue interchange located north of the Corpus Christi Ship Channel but south of the Nueces Bay Causeway; the southern limit is the SH 286 and SH 358 (South Padre Island Drive) interchange; the eastern limit is the Interstate Highway (IH) 37/US 181 intersection with Shoreline Boulevard; and the western limit is the IH 37 and Nueces Bay Boulevard interchange. The new project limits total approximately 7.5 miles in length from north to south along US 181 and SH 286, and 2.1 miles in length from east to west along IH 37. The new study limits are as follows: the northern limit is the US 181 and SH 35 interchange just south of Gregory; the southern limit is the SH 286 and SH 358 (South Padre Island Drive) interchange; the eastern limit is Shoreline Boulevard; and the western limit is the IH 37 and SH 358 (North Padre Island Drive) interchange.

The proposed Harbor Bridge and SH 286 improvements are based on several needs: safety concerns, lack of capacity, connectivity to local roadways, poor level of service and increasing traffic demand. In addition to those needs, the bridge's existing structure also has deficiencies, including high maintenance costs and shipping height restrictions. The improvements to both the Harbor Bridge and SH 286 will address the structural deficiencies and improve safety, connectivity, and level of service, while identifying future plans for the US 181 and SH 286 roadway structure, and the areas served by these two highways.

Alternatives under consideration include (1) Taking no action, and (2) replacing the existing US 181 Harbor Bridge and approach roads, including SH 286, with a facility that meets current highway standards. A Feasibility Study completed in 2003 evaluated four corridor alternatives along existing alignments—new location alignments and a No-build alternative—resulting in the identification of a recommended study corridor for the bridge replacement component. Capacity improvements and interchange design alternatives will be evaluated along the SH 286 corridor. A reasonable number of alignment alternatives will be identified and evaluated in the EIS, as well as the No-build Alternative, based on input from federal, state, and local agencies, as well as private organizations and concerned citizens. Alternative designs and funding alternatives will include tolling options or new managed lanes.

Impacts caused by the construction and operation of the proposed improvements would vary according to the alternative alignment utilized. Impacts generally would include the following: Impacts to residences and businesses, including potential relocation; impacts to parkland; transportation impacts (construction detours, construction traffic, and mobility improvement); air and noise impacts from construction equipment and operation of the roadway; social and economic impacts, including impacts to minority and low-income residences; impacts to historic cultural resources; endangered and threatened species and impacts to waters of the U.S. including wetlands from right-of-way encroachment; and potential indirect and cumulative impacts.

A letter that describes the proposed action and a request for comments will be sent to appropriate federal, state, and local agencies, and to private organizations and citizens who have previously expressed interest in the proposal. In conjunction with the Feasibility Study completed in June 2003, TxDOT developed a public involvement plan, sponsored three citizens' advisory committee (CAC) meetings, held two public meetings, and distributed two newsletters. Initial agency and public scoping meetings were held in June 2005. An agency scoping meeting will be held by TxDOT on May 17, 2007, to brief agency representatives on the revised limits of the project area, introduce project team members, obtain comments pertaining to the scope of the EIS, identify important issues, set goals, and respond to questions. A continuing public involvement program will include a project mailing list, project Web site, project newsletters, a May 17, 2007, public scoping meeting (public notice will be given of the time and place), and numerous informal meetings with interested citizens and stakeholders. In addition, a public hearing will be held after the publication of the Draft EIS. Public notice will be given of the time and place of the hearing. The Draft EIS will be available for public and agency review and comment prior to the public hearing.

To ensure that the full range of issues related to this proposed action is addressed and all significant issues identified, comments and suggestions are invited from all interested parties. Comments or questions concerning this proposed action and the EIS should be directed to the FHWA at the address provided above.

(Catalog of Federal Domestic Assistance Program Number 20.205, Highway Research, Planning, and Construction. The regulations implementing Executive Order 12372 regarding intergovernmental consultation on Federal programs and activities apply to this program)

Issued on: March 14, 2007.
Donald E. Davis,
District Engineer, Austin, Texas.

[FR Doc. 07-1338 Filed 3-19-07; 8:45 am]

BILLING CODE 4910-22-M